DEPARTMENT OF COMMERCE

International Trade Administration

[A-570-073]

Common Alloy Aluminum Sheet From the People's Republic of China: Preliminary Results of Antidumping Duty Administrative Review, Partial Recission of Antidumping Administrative Review, Preliminary Determination of No Shipments, and Preliminary Successor-In-Interest Determination; 2018-2020

AGENCY: Enforcement and Compliance, International Trade Administration, Department of Commerce.

SUMMARY: The Department of Commerce (Commerce) preliminarily determines that certain companies under review sold subject merchandise at less than normal value during the period of review (POR), June 22, 2018, through January 31, 2020, and that certain other companies under review did not ship subject merchandise to the United States during the POR. Additionally, Commerce is rescinding this review with respect to multiple companies. We are also making a preliminary successor-in-interest determination. Interested parties are invited to comment on these preliminary results of this review.

DATES: Applicable June 25, 2021.

FOR FURTHER INFORMATION CONTACT: Frank Schmitt or Fred Baker, AD/CVD Operations, Office VI, Enforcement and Compliance, International Trade Administration, U.S. Department of Commerce, 1401 Constitution Avenue NW, Washington, DC 20230; telephone: (202) 482-4880 or (202) 482-2924, respectively.

SUPPLEMENTARY INFORMATION:

Background

On April 8, 2020, in response to review requests from multiple parties, Commerce initiated an administrative review of the antidumping duty order on common alloy aluminum sheet (CAAS) from the People's Republic of China (China).¹ The POR is June 22, 2018, through January 31, 2020. On April 24 and July 21, 2020, Commerce tolled all deadlines in administrative reviews by 50 days and 60 days respectively.² On January 27 and June 2, 2021, Commerce extended the time limit for completing the preliminary results of this review, until June 18, 2021.³

¹ See Initiation of Antidumping and Countervailing Duty Administrative Reviews, 85 FR 19730 (April 8, 2020).

² See Memorandum, “Tolling of Deadlines for Antidumping and Countervailing Duty Administrative Reviews in Response to Operational Adjustments Due to COVID-19,” dated April 24, 2020; see also Memorandum, “Tolling of Deadlines for Antidumping and Countervailing Duty Administrative Reviews,” dated July 21, 2020.

³ See Memorandum, “Common Alloy Aluminum Sheet from China, 2018-2020: Extension of Time Limit for Preliminary Results of Antidumping Duty Administrative Review,” dated January 27, 2021; see also Memorandum, “Common Alloy Aluminum Sheet from China, 2018-2020: Extension of Time Limit for Preliminary Results of Antidumping Duty Administrative Review,” dated June 2, 2021. However, on June 17, 2021, the President signed into law the Juneteenth National Independence Day Act, making June 19 a Federal holiday. See Juneteenth National Independence Day Act, S. 475, Public Law 117-17 (2021). Because the Federal holiday fell on a Saturday, it was observed on Friday, June 18, 2021. Where a deadline falls on a weekend or Federal holiday, the appropriate deadline is the next business day. See Notice of Clarification: Application of “Next Business Day” Rule for Administrative Determination Deadlines Pursuant to the Tariff Act of 1930, As Amended, 70 FR 24533 (May 10, 2005). Accordingly, the deadline for these preliminary results is on June 21, 2021.

On June 10, 2020, Commerce selected two exporters and/or producers for individual examination as mandatory respondents, Henan Mingtai Aluminum Industrial/Zhengzhou Mingtai Industry Co., Ltd. (collectively, Mingtai), and Jiangyin New Alumax Composite Material (Jiangyin New Alumax).⁴ By the deadline for section A questionnaire responses, July 21, 2020, neither mandatory respondent had submitted a section A questionnaire response. By the deadline for section C-E questionnaire responses, August 6, 2020, neither mandatory respondent had submitted a section C-E questionnaire response. Additionally, on August 18, 2020, Mingtai filed a notice of its intent not to participate in this administrative review.⁵

⁴ See Memorandum, “Antidumping Duty Administrative Review of Common Alloy Aluminum Sheet from the People's Republic of China: Respondent Selection,” dated June 10, 2020.

⁵ See Mingtai's Letter, “Common Alloy Aluminum Sheet from the People's Republic of China: Mingtai Notice of Intent Not to Participate,” dated August 18, 2020.

Because neither Mingtai nor Jiangyin New Alumax responded to Commerce's antidumping questionnaire, on September 28, 2020, Commerce selected Jiangsu Alcha Aluminum Co., Ltd. (Jiangsu Alcha) as an additional mandatory respondent.⁶ During the course of this review, Jiangsu Alcha filed responses to Commerce's questionnaires and supplemental questionnaires, and the Aluminum Association Common Alloy Aluminum Sheet Trade Enforcement Working Group and its individual members ⁷ (the petitioner) commented on those responses. Additionally, multiple companies for which Commerce initiated the review filed either no-shipment claims or applications for separate rate status. For details regarding the events that occurred subsequent to the initiation of the review, see the Preliminary Decision Memorandum.⁸ A list of topics discussed in the Preliminary Decision Memorandum is included as an Appendix to this notice.

⁶ See Memorandum, “Administrative Review of the Antidumping Duty Order on Common Alloy Aluminum Sheet from the People's Republic of China: Selection of Additional Respondent for Individual Examination,” dated September 28, 2020.

⁷ The individual members of the Aluminum Association Common Alloy Aluminum Sheet Trade Enforcement Working Group are: Arconic Corporation, Commonwealth Rolled Products, Inc., Constellium Rolled Products Ravenswood, LLC, Jupiter Aluminum Corporation, JW Aluminum Company, and Novelis Corporation.

⁸ See Memorandum, “Decision Memorandum for the Preliminary Results of the 2018-2020 Antidumping Duty Administrative Review of Common Alloy Aluminum Sheet from the People's Republic of China,” issued concurrently with and hereby adopted by this notice (Preliminary Decision Memorandum).

The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://enforcement.trade.gov/frn/.

Scope of the Order

The merchandise covered by the order is common alloy aluminum sheet from China. For a complete description of the scope of the order, see the Preliminary Decision Memorandum.

Preliminary Determination of No Shipments

We found no evidence calling into question the no shipment claims by Teknik Aluminyum Sanayi A.S. and Companhia Brasileira de Aluminio; therefore, we preliminarily find that these companies had no shipments of subject merchandise to the United States during the POR. For additional information regarding these preliminary determinations, see the Preliminary Decision Memorandum.

Partial Recission of Administrative Review

Pursuant to 19 CFR 351.213(d)(1), Commerce will rescind an administrative review, in whole or in part, if all parties that requested a review withdraw their requests within 90 days of the publication date of the notice of initiation of the requested review. All parties timely withdrew their requests for administrative review of the following companies: (1) Multipanel UK Ltd., (2) Alumax Composite Material (Jiangyin) Co., Ltd., (3) Chalco Ruimin Co., (4) Granges Aluminum (Shanghai) Co., Ltd., (5) Henan Founder Beyond Industry Co., Ltd., (6) Henan Jinyang Luyue Co., Ltd., (7) Henan Xintai Aluminum Industry Co., Ltd., (8) Henan Zhongyuan Aluminum Co., Ltd., (9) Huafon Nikkei Aluminum Corporation, (10) Jiangsu Lidao New Material Co., Ltd., (11) Jiangsu Zhong He Aluminum Co., Ltd., (12) Jiangyin Litai Ornamental Materials Co., Ltd., (13) Luoyang Xinlong Aluminum Co., Ltd., (14) Shandong Fuhai Industrial Co., Ltd., (15) Shandong Nanshan Aluminum Co., Ltd., (16) Shanghai Dongshuo Metal Trade Co., Ltd., (17) Tianjin Zhongwang Aluminum Co., Ltd., (18) Xiamen Xiashun Aluminum Foil Co., Ltd., (19) Yantai Jintai International Trade Co., Ltd., and (20) Zhengzhou Silverstone Limited. Accordingly, Commerce is rescinding this review with respect to these companies, in accordance with 19 CFR 351.213(d)(1). For additional information regarding the rescission of Commerce's administrative reviews, see the Preliminary Decision Memorandum.

Preliminary Affiliation and Single Entity Determination

We have determined that Jiangsu Alcha, Alcha International, and Baotou Alcha Aluminum Co., Ltd. (Baotou Alcha) are affiliated entities pursuant to section 771(33)(F) of the Tariff Act of 1930, as amended (the Act). We have also determined that Jiangsu Alcha and Baotou Alcha Aluminum Co., Ltd. (Baotou Alcha) should be treated as a single entity pursuant to 19 CFR 351.401(f)(1)-(2). For additional information, see the Affiliation Memorandum.⁹

⁹ See Memorandum, “Preliminary Affiliation and Collapsing Memorandum: Common Alloy Aluminum Sheet from China,” dated concurrently with this notice (Affiliation Memorandum).

Separate Rates

We have preliminarily determined that the information placed on the record by Jiangsu Alcha, Alcha International (collectively, Alcha Group), and Yinbang Clad Material Co., Ltd. (Yinbang Clad) demonstrates that these companies are eligible for a separate rate. We have also preliminarily determined that Choil Aluminum Co., Ltd.; Jiangyin New Alumax; Mingtai; PMS Metal Profil Aluminyum San. Ve Tic. A.S. Demirtas Organize Sanayi Bolgesi; and United Metal Coating LLC have not demonstrated their eligibility for a separate rate because they did not file separate rate applications or certifications with Commerce. Therefore, we are treating these companies as part of the China-wide entity. Because no party requested a review of the China-wide entity, the entity is not under review and the entity's rate (i.e., 59.72 percent) is not subject to change.¹⁰

¹⁰ See Common Alloy Aluminum Sheet from the People's Republic of China: Antidumping Duty Order, 84 FR 2813 (February 8, 2019).

For additional information regarding Commerce's preliminary separate rates determinations, see the Preliminary Decision Memorandum.

Dumping Margins for Separate Rate Companies

The statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. Where the rates for the individually examined companies are all zero, de minimis, or based entirely on facts available, section 735(c)(5)(B) of the Act provides that Commerce may use “any reasonable method” to establish the all-others rate. In this review, we calculated a rate for Alcha Group that is not zero, de minimis, or based entirely on facts available. Therefore, we have assigned this rate to the companies not selected for individual examination but that are eligible for a separate rate.

Methodology

Commerce is conducting this administrative review in accordance with section 751(a)(1)(B) of the Act. Commerce calculated export and constructed export prices in accordance with section 772 of the Act. Because Commerce has determined that China is a nonmarket economy country,¹¹ within the meaning of section 771(18) of the Act, Commerce calculated normal value in accordance with section 773(c) of the Act.

¹¹ See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017), unchanged in Certain Aluminum Foil from the People's Republic of China: Final Determination of Sales at Less Than Fair Value, 83 FR 9282 (March 5, 2018).

For a full description of the methodology underlying the preliminary results of this review, see the Preliminary Decision Memorandum.

Preliminary Results of Review

We are preliminarily assigning the following dumping margins to the firms listed below for the period June 22, 2018, through January 31, 2020:

Exporter | Weighted- average dumping margin (percent)
Jiangsu Alcha Aluminum Co., Ltd./Alcha International Holdings Limited | 143.30
Yinbang Clad Material Co., Ltd | 143.30
China-Wide Entity ¹² | 59.72

Disclosure and Public Comment

¹² As noted above, the China-Wide Entity is not subject to this review. However, in this review we have preliminarily determined that the following companies under review are now part of the China-Wide Entity: (1) Choil Aluminum Co., Ltd.; (2) Henan Mingtai Al Industrial Co., Ltd.; (3) Jiangyin New Alumax Composite Material Co., Ltd.; (4) PMS Metal Profil Aluminyum San. Ve Tic. A.S. Demirtas Organize Sanayi Bolgesi; (5) United Metal Coating LLC; and (6) Zhengzhou Mingtai Industry Co., Ltd.

Commerce intends to disclose to parties to the proceeding the calculations performed for these preliminary results of review within five days of the date of publication of this notice in the Federal Register in accordance with 19 CFR 351.224(b). Interested parties may submit case briefs no later than 30 days after the date of publication of these preliminary results of review in the Federal Register.¹³ Rebuttal briefs may be filed no later than seven days after case briefs are due and may respond only to arguments raised in the case briefs.¹⁴ A table of contents, list of authorities used, and an executive summary of issues should accompany any briefs submitted to Commerce. The summary should be limited to five pages total, including footnotes.¹⁵

¹³ See 19 CFR 351.309(c)(ii).

¹⁴ See 19 CFR 351.309(d).

¹⁵ See 19 CFR 351.309(c)(2), (d)(2).

Interested parties who wish to request a hearing must submit a written request to the Assistant Secretary for Enforcement and Compliance, U.S. Department of Commerce, within 30 days after the date of publication of this notice in the Federal Register.¹⁶ Requests should contain the party's name, address, and telephone number, the number of individuals from the requesting party's firm that will attend the hearing, and a list of the issues the party intends to discuss at the hearing. Oral arguments at the hearing will be limited to issues raised in the briefs. If a request for a hearing is made, Commerce intends to hold the hearing at a date and time to be determined.¹⁷ Parties should confirm by telephone the date and time of the hearing two days before the scheduled date of the hearing.

¹⁶ See 19 CFR 351.310(c).

¹⁷ See 19 CFR 351.310(d).

All submissions, with limited exceptions, must be filed electronically using ACCESS.¹⁸ An electronically filed document must be received successfully in its entirety by Commerce's electronic records system, ACCESS, by 5 p.m. Eastern Time (ET) on the due date.¹⁹ Note that Commerce has temporarily modified certain of its requirements for serving documents containing business proprietary information until further notice.²⁰ Unless otherwise extended, Commerce intends to issue the final results of this administrative review, which will include the results of its analysis of issues raised in any briefs, within 120 days of publication of these preliminary results of review in the Federal Register, pursuant to section 751(a)(3)(A) of the Act.

¹⁸ See generally 19 CFR 351.303.

¹⁹ See 19 CFR 351.303 (for general filing requirements); see also Antidumping and Countervailing Duty Proceedings: Electronic Filing Procedures; Administrative Protective Order Procedures, 76 FR 39263 (July 6, 2011).

²⁰ See Temporary Rule Modifying AD/CVD Service Requirements Due to COVID-19; Extension of Effective Period, 85 FR 29615 (May 18, 2020); see also Temporary Rule Modifying AD/CVD Service Requirements Due to COVID-19; Extension of Effective Period, 85 FR 41363 (July 10, 2020).

Assessment Rates

Upon issuance of the final results of this review, Commerce will determine, and U.S. Customs and Border Protection (CBP) shall assess, antidumping duties on all appropriate entries covered by this review.²¹ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

²¹ See 19 CFR 351.212(b)(1).

For each individually examined respondent in this review whose weighted-average dumping margin in the final results of review is not zero or de minimis (i.e., less than 0.5 percent), Commerce intends to calculate importer/customer-specific assessment rates, in accordance with 19 CFR 351.212(b)(1).²² Where the respondent reported reliable entered values, Commerce intends to calculate importer/customer-specific ad valorem assessment rates by aggregating the amount of dumping calculated for all U.S. sales to the importer/customer and dividing this amount by the total entered value of the merchandise sold to the importer/customer.²³ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²⁴ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²⁵

²² See Antidumping Proceedings: Calculation of the Weighted Average Dumping Margin and Assessment Rate in Certain Antidumping Proceedings: Final Modification, 77 FR 8101 (February 14, 2012) (Final Modification).

²³ See 19 CFR 351.212(b)(1).

²⁴ Id.

²⁵ See Final Modification, 77 FR at 8103.

For the respondents that were not selected for individual examination in this administrative review, but which qualified for a separate rate, the assessment rate will be based on the weighted-average dumping margin(s) assigned to the respondent(s), as appropriate, in the final results of this review.²⁶

²⁶ See Drawn Stainless Steel Sinks from the People's Republic of China: Preliminary Results of the Antidumping Duty Administrative Review and Preliminary Determination of No Shipments: 2014-2015, 81 FR 29528 (May 12, 2016), and accompanying IDM at 10-11, unchanged in Drawn Stainless Steel Sinks from the People's Republic of China: Final Results of Antidumping Duty Administrative Review; Final Determination of No Shipments; 2014-2015, 81 FR 54042 (August 15, 2016).

Pursuant to Commerce's refinement to its practice, for sales that were not reported in the U.S. sales database submitted by an exporter individually examined during this review, Commerce will instruct CBP to liquidate the entry of such merchandise at the dumping margin for the China-wide entity.²⁷ Additionally, where Commerce determines that an exporter under review had no shipments of subject merchandise to the United States during the POR, any suspended entries of subject merchandise that entered under that exporter's CBP case number during the POR will be liquidated at the dumping margin for the China-wide entity.

²⁷ See Non-Market Economy Antidumping Proceedings: Assessment of Antidumping Duties, 76 FR 65694 (October 24, 2011), for a full discussion of this practice.

In accordance with section 751(a)(2)(C) of the Act, the final results of this review shall be the basis for the assessment of antidumping duties on entries of merchandise covered by the final results of this review and for future deposits of estimated antidumping duties, where applicable.

Cash Deposit Requirements

Commerce will instruct CBP to require a cash deposit for antidumping duties equal to the weighted-average amount by which the normal value exceeds U.S. price. The following cash deposit requirements will be effective for shipments of the subject merchandise from China entered, or withdrawn from warehouse, for consumption on or after the publication date of this notice in the Federal Register, as provided by section 751(a)(2)(C) of the Act: (1) For the exporters listed in the table above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the table above but that have separate rates, the cash deposit rate will continue to be the exporter-specific rate established in the most recently completed segment of this proceeding; (3) for all Chinese exporters of subject merchandise which have not been found to be entitled to a separate rate, the cash deposit rate will be the rate for the China-wide entity (i.e., 59.72 percent) ²⁸ and (4) for all non-Chinese exporters of subject merchandise that have not received their own rate, the cash deposit rate will be the rate applicable to the China exporter that supplied that non-Chinese exporter. These deposit requirements, when imposed, shall remain in effect until further notice.

²⁸ See Common Alloy Aluminum Sheet from the People's Republic of China: Antidumping Duty Order, 84 FR 2813 (February 8, 2019).

Notification to Importers

This notice also serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties and/or an increase in the amount of antidumping duties by the amount of the countervailing duties.

Notification to Interested Parties

We are issuing and publishing these results in accordance with sections 751(a)(1) and 777(i)(1) of the Act, and 19 CFR 351.213 and 351.221(b)(4).

Dated: June 21, 2021.
James Maeder,
Deputy Assistant Secretary for Antidumping and Countervailing Duty Operations.

Appendix—List of Sections in the Preliminary Decision Memorandum

I. Summary

II. Background

III. Scope of the Order

IV. Partial Rescission of Administrative Review

V. Preliminary Determination of No Shipments

VI. Preliminary Successor-In-Interest Determination

VII. Affiliation

VIII. Discussion of Methodology

IX. Adjustment Under Section 777A of the Act

X. Currency Conversion

XI. Recommendation

[FR Doc. 2021-13546 Filed 6-24-21; 8:45 am]

BILLING CODE 3510-DS-P